DEPARTMENT OF TRANSPORTATION

Office of the Secretary

Aviation Proceedings, Agreements Filed the Week Ending January 10, 2003

The following agreements were filed with the Department of Transportation under the provisions of 49 U.S.C. 412 and 414. Answers may be filed within 21 days after the filing of the application.

Docket Number: OST-2003-14203.

Date Filed: January 6, 2003.

Parties: Members of the International Air Transport Association.

Subject: PTC COMP Fares 0273 dated December 17, 2002, TC12/TC123 North Atlantic—Resolution 015n—USA Add-on Amounts. Report—PTC COMP 990 dated December 20, 2002. Intended effective date: February 1, 2003.

Docket Number: OST-2003-14208.

Date: Filed January 6, 2003.

Parties: Members of the International Air Transport Association.

Subject: Mail Vote 257, PTC23 ME-TC3 0163 dated December 23, 2002, Resolution 010m, TC23/TC123 Middle East-TC3, Special Passenger Amending Resolution between China (excluding Hong Kong SAR and Macao SAR) and points in the Middle East. Intended effective date: January 15, 2003.

Dorothy Y. Beard,
Chief, Docket Operations & Media Management, Federal Register Liaison.

[FR Doc. 03-1480 Filed 1-22-03; 8:45 am]

BILLING CODE 4910-62-P